DEPARTMENT OF COMMERCE

National Oceanic and Atmospheric Administration

RIN 0648-XQ12

Marine Mammals; File No. 540-1811

AGENCY: National Marine Fisheries Service (NMFS), National Oceanic and Atmospheric Administration (NOAA), Commerce.

ACTION: Notice; Issuance of permit amendment.

SUMMARY: Notice is hereby given that Mr. John Calambokidis, Cascadia Research Collective, Waterstreet Building, 218 1/2 West Fourth Avenue, Olympia, WA 89501, has been issued an amendment to scientific research Permit No. 540-1811.

ADDRESSES: The permit and related documents are available for review upon written request or by appointment (See SUPPLEMENTARY INFORMATION).

FOR FURTHER INFORMATION CONTACT: Jennifer Skidmore or Carrie Hubard, (301)713-2289.

SUPPLEMENTARY INFORMATION: On May 7, 2008, notice was published in the Federal Register (73 FR 25668) that a request for a scientific research permit amendment to take cetacean species had been submitted by the above-named individual. The requested permit amendment has been issued under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Permit No. 540-1811, issued to John Calambokidis, authorizes aerial and vessel surveys, photo-identification, behavioral observations, tagging (using suction-cup attached tags), biopsy, video and acoustic recording, and incidental harassment of all species of odontocetes and baleen whales in the North Pacific Ocean. The permit has been amended to authorize dart tagging of the following species of marine mammals: blue (Balaenoptera musculus), fin (B. physalus), sei (B. borealis), gray (Eschrichtius robustus), sperm (Physeter macrocephalus), Bryde's (B. edeni), humpback (Megaptera novaeangliae) and minke (B. acutorostrata) whales, Mesoplodon beaked whales (Mesoplodon spp), Cuvier's (Ziphius cavirostris) and Baird's (Berardius bairdii) beaked whales, and bottlenose (Tursiops truncatus) and Risso's (Grampus griseus) dolphins. For each species, 20 animals have been authorized to be taken via dart tags, with the exception of sei whales, where only 5 takes were requested and granted. Additionally, an increase in biopsy sampling and suction-cup tagging has been authorized for several cetacean species (fin, sperm, and short-finned pilot whales (Globicephala macrorhynchus) and Baird's, Cuvier's, and Mesoplodon beaked whales). No additional Level B harassment was requested. Dart tagging will occur concurrently with already permitted activities (i.e., vessel surveys, photo-identification, suction-cup tagging etc), primarily in the waters off California, though some species may be tagged opportunistically elsewhere where activities are authorized (i.e., U.S. and international waters of the Pacific including Alaska, Washington, Oregon, and other U.S. territories). The amended permit is valid until April 14, 2011.

In compliance with the National Environmental Policy Act of 1969 (42 U.S.C. 4321 et seq.), an environmental assessment (EA) was prepared analyzing the effects of the permitted activities on the human environment. Based on the analyses in the EA, NMFS determined that issuance of the permit amendment would not significantly impact the quality of the human environment and that preparation of an environmental impact statement was not required. That determination is documented in a Finding of No Significant Impact (FONSI), signed on June 29, 2009.

Issuance of this amended permit, as required by the ESA, was based on a finding that such permit: (1) was applied for in good faith; (2) will not operate to the disadvantage of such endangered species; and (3) is consistent with the purposes and policies set forth in section 2 of the ESA.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)973-2935; fax (808)973-2941.

Dated: June 30, 2009.
P. Michael Payne,
Chief, Permits, Conservation and Education Division, Office of Protected Resources, National Marine Fisheries Service.

[FR Doc. E9-15957 Filed 7-6-09; 8:45 am]

BILLING CODE 3510-22-S